DEPARTMENT OF THE INTERIOR

National Park Service

[NPS-WASO-NAGPRA-NPS0039431; PPWOCRADN0-PCU00RP14.R50000]

Notice of Intended Disposition: U.S. Department of Defense, Navy, Naval Base Coronado San Clemente Island, San Diego, CA

AGENCY: National Park Service, Interior.

ACTION: Notice.

SUMMARY: In accordance with the Native American Graves Protection and Repatriation Act (NAGPRA), U.S. Department of Defense, Navy, Naval Base Coronado San Clemente Island (Naval Base Coronado), intends to carry out the disposition of unassociated funerary objects, sacred objects, or objects of cultural patrimony removed from Federal or Tribal lands to the lineal descendants, Indian Tribe, or Native Hawaiian organization with priority for disposition in this notice.

DATES: Disposition of the cultural items in this notice may occur on or after April 16, 2025. If no claim for disposition is received by March 17, 2026, the cultural items in this notice will become unclaimed cultural items.

ADDRESSES: Richard G. Bark, Senior Region Archaeologist, Naval Facilities Engineering Systems Command Southwest, 750 Pacific Highway, Floor 12, San Diego, CA 92132, telephone (619) 705-5672, email richard.g.bark.civ@us.navy.mil.

SUPPLEMENTARY INFORMATION: This notice is published as part of the National Park Service's administrative responsibilities under NAGPRA. The determinations in this notice are the sole responsibility of Naval Base Coronado, and additional information on the cultural items in this notice, including the results of consultation, can be found in the related records. The National Park Service is not responsible for the identifications in this notice.

Abstract of Information Available

Based on the information available, at least one unassociated funerary object, and at least one sacred object/object of cultural patrimony have been collected from San Clemente Island including lithic tools, debitage, groundstone tools, pitted stones, taring pebbles, stone bowls, donut stones, stone pendants, ceramic fragments, ceramic effigies, stone effigies, basketry fragments, shell beads, shell fishhooks, modified and unmodified bone, fish bones, shellfish, ochre fragments, fire-affected rock, pieces of asphaltum, charcoal samples, radiocarbon samples, soil samples, and column samples. The unassociated funerary objects and sacred objects/objects of cultural patrimony were excavated from 130 sites on San Clemente Island, Los Angeles County, CA by the Northridge Center for Public Archaeology and various entities working under contract for the Navy between 1991 and 2015. These excavations resulted in the removal of thousands of cultural items comprising approximately 380 boxes.

Determinations

Naval Base Coronado has determined that:

• The one (at least) unassociated funerary objects described in this notice is reasonably believed to have been placed intentionally with or near human remains, and is connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• The one (at least) sacred objects/objects of cultural patrimony described in this notice is, according to the Native American traditional knowledge of an Indian Tribe or Native Hawaiian organization, a specific ceremonial object needed by a traditional Native American religious leader for present-day adherents to practice traditional Native American religion, and has ongoing historical, traditional, or cultural importance central to the Native American group, including any constituent sub-group (such as a band, clan, lineage, ceremonial society, or other subdivision).

• The La Jolla Band of Luiseno Indians, California; Pala Band of Mission Indians; Pauma Band of Luiseno Mission Indians of the Pauma & Yuima Reservation, California; Pechanga Band of Indians (previously listed as Pechanga Band of Luiseno Mission Indians of the Pechanga Reservation, California); Rincon Band of Luiseno Mission Indians of Rincon Reservation, California; Santa Ynez Band of Chumash Mission Indians of the Santa Ynez Reservation, California; and the Soboba Band of Luiseno Indians, California have priority for disposition of the cultural items described in this notice.

Claims for Disposition

Written claims for disposition of the cultural items in this notice must be sent to the appropriate official identified in this notice under ADDRESSES. If no claim for disposition is received by March 17, 2026, the cultural items in this notice will become unclaimed cultural items. Claims for disposition may be submitted by:

1. Any lineal descendant, Indian Tribe, or Native Hawaiian organization identified in this notice.

2. Any lineal descendant, Indian Tribe, or Native Hawaiian organization not identified in this notice who shows, by a preponderance of the evidence, that they have priority for disposition.

Disposition of the cultural items in this notice may occur on or after April 16, 2025. If competing claims for disposition are received, Naval Base Coronado must determine the most appropriate claimant prior to disposition. Requests for joint disposition of the cultural items are considered a single request and not competing requests. Naval Base Coronado is responsible for sending a copy of this notice to the lineal descendants, Indian Tribes, and Native Hawaiian organizations identified in this notice and to any other consulting parties.

Authority: Native American Graves Protection and Repatriation Act, 25 U.S.C. 3002, and the implementing regulations, 43 CFR 10.7.

Dated: January 28, 2025.
Melanie O'Brien,
Manager, National NAGPRA Program.

[FR Doc. 2025-04173 Filed 3-14-25; 8:45 am]

BILLING CODE 4312-52-P